DEPARTMENT OF COMMERCE

International Trade Administration

[A-489-501]

Certain Welded Carbon Steel Pipe and Tube from Turkey: Notice of Final Results of Antidumping Duty Administrative Review

AGENCY: Import Administration, International Trade Administration, Department of Commerce.

SUMMARY: On February 9, 2009, the Department of Commerce (“the Department”) published the preliminary results of its administrative review of the antidumping duty order on certain welded carbon steel pipe and tube (“welded pipe and tube”) from Turkey.¹ This review covers one producer/exporter of the subject merchandise.² The period of review (“POR”) is May 1, 2007, through April 30, 2008. Based on our analysis of the comments received, these final results differ from the preliminary results. The final results are listed below in the Final Results of Review section.

¹ See Certain Welded Carbon Steel Pipe and Tube from Turkey: Notice of Preliminary Results of Antidumping Duty Administrative Review, 74 FR 6368 (February 9, 2009).

² On February 17, 2009, the review was rescinded with respect to Toscelik Profil ve Sac Endustrisi A.S. See Certain Welded Carbon Steel Pipe and Tube from Turkey: Notice of Rescission, in Part, of Antidumping Duty Administrative Review, 74 FR 7394 (February 17, 2009).

EFFECTIVE DATE: May 15, 2009.

FOR FURTHER INFORMATION CONTACT: Dennis McClure or Christopher Hargett, AD/CVD Operations, Office 3, Import Administration, International Trade Administration, U.S. Department of Commerce, 14th Street and Constitution Avenue, NW, Washington, DC 20230; telephone: (202) 482-5973 or (202) 482-4161, respectively.

SUPPLEMENTARY INFORMATION:

Background

This review covers the Borusan Group³ (“Borusan”), a producer/exporter of the subject merchandise. On February 9, 2009, the Department published the preliminary results of this review and invited interested parties to comment on those results. On March 11, 2009, we received a case brief from Borusan. We did not receive a rebuttal brief from any interested parties.

³ The Borusan Group includes Borusan Mannesmann Boru Sanayi ve Ticaret A.S. and Borusan Istikbal Ticaret T.A.S. and other affiliated companies.

Scope of the Order

The products covered by this order include circular welded non-alloy steel pipes and tubes, of circular cross-section, not more than 406.4 millimeters (16 inches) in outside diameter, regardless of wall thickness, surface finish (black, or galvanized, painted), or end finish (plain end, beveled end, threaded and coupled). Those pipes and tubes are generally known as standard pipe, though they may also be called structural or mechanical tubing in certain applications. Standard pipes and tubes are intended for the low pressure conveyance of water, steam, natural gas, air, and other liquids and gases in plumbing and heating systems, air conditioner units, automatic sprinkler systems, and other related uses. Standard pipe may also be used for light load-bearing and mechanical applications, such as for fence tubing, and for protection of electrical wiring, such as conduit shells.

The scope is not limited to standard pipe and fence tubing, or those types of mechanical and structural pipe that are used in standard pipe applications. All carbon steel pipes and tubes within the physical description outlined above are included in the scope of this order, except for line pipe, oil country tubular goods, boiler tubing, cold-drawn or cold-rolled mechanical tubing, pipe and tube hollows for redraws, finished scaffolding, and finished rigid conduit.

Imports of these products are currently classifiable under the following Harmonized Tariff Schedule of the United States (“HTSUS”) subheadings: 7306.30.10.00, 7306.30.50.25, 7306.30.50.32, 7306.30.50.40, 7306.30.50.55, 7306.30.50.85, and 7306.30.50.90. Although the HTSUS subheadings are provided for convenience and customs purposes, our written description of the scope of this proceeding is dispositive.

Analysis of Comments Received

Interested parties made only one comment which related to an alleged ministerial error, which we address below. A separate Issues and Decision Memorandum has not been prepared for these final results.

Because the Department used the incorrect start and end dates for the POR, Borusan argues that the Department incorrectly dropped a large number of home market sales from the margin calculation. Borusan asserts that the Department should correct the start and end dates for the window periods in the margin calculation in order to match U.S. sales to contemporaneous sales in the home market. Citing to section 773(b)(1)(A) of the Tariff Act of 1930, as amended (“the Act”), Borusan contends that the Department needs to ensure that a proper cost test is applied to the home market sales so as to ensure a proper determination of whether home market sales have been made at less than cost of production “over an extended period of time.”

We agree that the Department inadvertently used the incorrect dates as the start date and end date in our margin calculation. Therefore, we have corrected the dates to ensure that a proper cost test is applied to the home market sales. See Calculation Memorandum for the Borusan Group, from Dennis McClure to James Terpstra, dated June 9, 2009.

Fair Value Comparisons

We calculated export price (“EP”) and normal value (“NV”) based on the same methodology used in the preliminary results, except as noted in the Analysis of Comments Received section above.

Cost of Production

We calculated the cost of production for the merchandise based on the same methodology used in the preliminary results.

Final Results of Review

As a result of our review, we determine that the following weighted-average margin exists for the period May 1, 2007, through April 30, 2008.

Manufacturer/Exporter | Weighted-Average Margin
Borusan⁴ | 7.59 percent
⁴ The cash deposit rate calculated for Borusan applies to The Borusan Group, Borusan Mannesmann Boru Sanayi ve Ticaret, A.S. and Borusan Istikbal Ticaret T.A.S. for CBP purposes. The Department formerly referred to Borusan Istikbal Ticaret T.A.S. as Istikbal Ticaret T.A.S. See Notice of Final Results of Antidumping Duty Administrative Review: Certain Welded Carbon Steel Pipe and Tube from Turkey, 70 FR 73447 (December 12, 2005). We note that Borusan's response does not identify a company by the name Istikbal Ticaret T.A.S. Instead, Borusan's response identified their affiliate, Borusan Istikbal Ticaret T.A.S., which was not involved in sales of subject merchandise to the United States during the POR. See Borusan's August 29, 2008, response at 33. Borusan also explained in its August 29, 2008, response at 5, that Borusan Birlesik Boru Fabrikalari San ve Tic. (“BBBF”) was renamed Borusan Mannesmann Boru Sanayi Ve Ticaret, A.S. prior to BBBF's name change.

Assessment

The Department will determine, and U.S. Customs and Border Protection (“CBP”) shall assess, antidumping duties on all appropriate entries, pursuant to section 751(a)(1)(B) of the Act, and 19 CFR 351.212(b). The Department calculated importer-specific duty assessment rates based on the ratio of the total antidumping duties calculated for the examined sales to the total entered value of the examined sales for that importer. Where the assessment rate is above de minimis, we will instruct CBP to assess duties on all entries of subject merchandise by that importer. The Department intends to issue assessment instructions to CBP 15 days after the date of publication of these final results of review.

The Department clarified its “automatic assessment” regulation on May 6, 2003. See Antidumping and Countervailing Duty Proceedings: Assessment of Antidumping Duties, 68 FR 23954 (May 6, 2003) (“Assessment Policy Notice”). This clarification will apply to entries of subject merchandise during the POR produced by Borusan for which Borusan did not know that the merchandise it sold to the intermediary (e.g., a reseller, trading company, or exporter) was destined for the United States. In such instances, we will instruct CBP to liquidate unreviewed entries at the all-others rate if there is no rate for the intermediary involved in the transaction. See Assessment Policy Notice for a full discussion of this clarification.

Cash Deposit Requirements

The following antidumping duty deposit rates will be effective upon publication of this notice of final results of the administrative review for all shipments of welded pipe and tube from Turkey entered, or withdrawn from warehouse, for consumption on or after the date of the publication of these final results, as provided by section 751(a)(1) of the Act: (1) the cash deposit rate for Borusan is 7.59 percent; (2) for previously reviewed or investigated companies not listed above, the cash deposit rate will continue to be the company-specific rate published for the most recent final results in which that manufacturer or exporter participated; (3) if the exporter is not a firm covered in this review, a prior review, or the original less-than-fair-value (“LTFV”) investigation, but the manufacturer is, the cash deposit rate will be the rate established for the most recent final results for the manufacturer of the merchandise; and, (4) if neither the exporter nor the manufacturer is a firm covered in this or any previous review conducted by the Department, the cash deposit rate will be 14.74 percent, the all-others rate established in the LTFV investigation. See Antidumping Duty Order; Welded Carbon Steel Standard Pipe and Tube Products From Turkey, 51 FR 17784 (May 15, 1986). These cash deposit requirements, when imposed, shall remain in effect until further notice.

Reimbursement of Duties

This notice serves as a final reminder to importers of their responsibility under 19 CFR 351.402(f)(2) to file a certificate regarding the reimbursement of antidumping and/or countervailing duties prior to liquidation of the relevant entries during this review period. Failure to comply with this requirement may result in the Secretary's presumption that reimbursement of antidumping and/or countervailing duties occurred and the subsequent assessment of doubled antidumping and/or countervailing duties.

Administrative Protective Order

This notice also is the only reminder to parties subject to administrative protective order (“APO”) of their responsibility concerning the return or destruction of proprietary information disclosed under APO in accordance with 19 CFR 351.305. Timely written notification of the return/destruction of APO materials or conversion to judicial protective order is hereby requested. Failure to comply with the regulations and the terms of an APO is a sanctionable violation.

We are issuing and publishing these results and notice in accordance with sections 751(a)(1) and 777(i)(1) of the Act.

Dated: May 7, 2009.
Ronald K. Lorentzen,
Acting Assistant Secretary for Import Administration.

[FR Doc. E9-11419 Filed 5-14-09; 8:45 am]

BILLING CODE 3510-DS-S